DEPARTMENT OF COMMERCE

International Trade Administration

[A-552-801]

Certain Frozen Fish Fillets from the Socialist Republic of Vietnam: Extension of Time Limit for Final Results of the Third New Shipper Review

AGENCY: Import Administration, International Trade Administration, Department of Commerce

DATES: Effective Date: April 20, 2009.

FOR FURTHER INFORMATION CONTACT: Alan Ray, AD/CVD Operations, Office 9, and Emeka Chukwudebe, AD/CVD Operations, Office 9, Import Administration, International Trade Administration, U.S. Department of Commerce, 14th Street and Constitution Avenue, NW., Washington, DC 20230; telephone: (202) 482-5403 and (202) 482-0219, respectively.

Background

On January 28, 2009, the Department of Commerce (“Department”) published the preliminary results of the third new shipper review for the period August 1, 2007, through January 31, 2008. See Certain Frozen Fish Fillets From the Socialist Republic of Vietnam: Notice of Preliminary Results of the Third New Shipper Review, 74 FR 4920 (January 28, 2009) (“Preliminary Results”). The final results are currently due on April 16, 2009.

Extension of Time Limits for Final Results

Section 751(a)(2)(B)(iv) of the Tariff Act of 1930, as amended (“Act”), and 19 CFR 351.214(i)(1) require the Department to issue the final results in a new shipper review of an antidumping duty order 90 days after the date on which the preliminary results are issued. The Department may, however, extend the deadline for completion of the final results of a new shipper review to 150 days if it determines that the case is extraordinarily complicated. See section 751(a)(2)(B)(iv) of the Act and 19 CFR 351.214(i)(2).

The Department finds this case is extraordinarily complicated because a study recently placed on the record presents a number of complex factual and legal questions with regard to the surrogate value of whole fish. Therefore, the Department and interested parties need more time to analyze the study. Accordingly, because the Department requires additional time to complete the final results, we are extending the time for the completion of the final results of this review by 60 days to June 15, 2009.

This notice is published in accordance with section 751(a)(2)(B)(iv) of the Act and 19 CFR 351.214(i)(2).

Dated: April 15, 2009.
John M. Andersen,
Acting Deputy Assistant Secretary for Antidumping and Countervailing Duty Operations.

[FR Doc. E9-9119 Filed 4-20-09; 8:45 am]

BILLING CODE 3510-DS-P